DEPARTMENT OF VETERANS AFFAIRS

Privacy Act of 1974; System of Records

AGENCY: Department of Veterans Affairs.

ACTION: Notice of Amendment of System of Records; correction.

SUMMARY: The Department of Veterans Affairs (VA) published a notice in the Federal Register on October 31, 2012 (77 FR 65938), to amend its system of records entitled “Patient Medical Record—VA” (24VA19) as set forth in the Federal Register at 74 FR 60040. That notice contained several errors that are corrected by this document.

DATES: Effective Date: This correction is effective March 22, 2013.

FOR FURTHER INFORMATION CONTACT: Stephania H. Putt, Veterans Health Administration (VHA), Privacy Officer, Department of Veterans Affairs, 810 Vermont Avenue NW., Washington, DC 20420, (704) 245-2492.

SUPPLEMENTARY INFORMATION: On October 31, 2012, VA published an amendment to a system of records entitled “Patient Medical Records—VA” (24VA19), which revised the System Number (the new number is 24VA10P2), Categories of Individuals Covered by the Systems, Categories of Records in the System; and Routine Uses of Records Maintained in the System. Recently, it was brought to our attention that the number “(8)” assigned to the new Caregivers' category, under the heading “Categories of Individuals Covered by the System,” already was in use. Therefore, we are adding Caregivers as category number “(9)”. Under the heading “Categories of Records in the System,” paragraph (iii), first sentence, we inadvertently left out “minimum data set”. We are adding “minimum data set” right after the word “registry”. And under the heading, “Routine Uses of Records Maintained in the System,” we incorrectly numbered two new routine uses as 53 and 54. Routine uses numbers 53 and 54 already are used, so the new routine uses numbers should be “59” and “60”. This document corrects those errors.

In FR Doc. 2012-26801 published on October 31, 2012 (77 FR 65939), make the following corrections:

On page 65938, third column, third paragraph, remove ”fifty-three (53)” and add, in its place, “fifty-nine (59)” and in the same column, fourth paragraph, remove “fifty-four (54)” and add, in its place, “sixty (60)”.

On page 65939, first column, remove “(8): Caregivers.” and add, in its place, “(9): Caregivers.”. On the same page, in paragraph (iii), first sentence, insert “minimum data set,” immediately after the word “registry,”. On the same page, renumber paragraphs number “53” and “54” as paragraphs “59” and “60”, respectively.

Dated: March 19, 2013.
Robert C. McFetridge,
Director, Regulation Policy and Management.

[FR Doc. 2013-06664 Filed 3-21-13; 8:45 am]

BILLING CODE 8320-01-P